COMMODITY FUTURES TRADING COMMISSION

Public Availability of Fiscal Year 2022 Service Contract Inventory

AGENCY: Commodity Futures Trading Commission.

ACTION: Notice of availability.

SUMMARY: The Commodity Futures Trading Commission (CFTC) is publishing this notice to advise the public of the availability of CFTC's Fiscal Year 2022 Service Contract Inventory.

FOR FURTHER INFORMATION CONTACT: Questions regarding the service contract inventory should be directed to Livia Bykov, Procurement Analyst, at 202-418-5103 or lbykov@cftc.gov.

SUPPLEMENTARY INFORMATION: In accordance with section 743 of division C of the Consolidated Appropriations Act of 2010, Public Law 111-117, 123 Stat. 3034, CFTC is publishing this notice to advise the public of the availability of the Fiscal Year (FY) 2022 Service Contract Inventory. CFTC has posted its inventory documents on the agency website at the following link: https://www.cftc.gov/About/CFTCReports/index.htm.

This inventory provides information on service contracts above the Simplified Acquisition Threshold ($250,000), as determined by the base and all options value, that were awarded in FY 2022. CFTC's service contract inventory data is included in the government-wide inventory, which can be filtered to display the CFTC-specific data. A link to the government-wide inventory is included in the posting on the CFTC website, or it can be accessed directly at https://www.acquisition.gov/service-contract-inventory.

The inventory documents posted on the CFTC website also include the CFTC FY 2021 Service Contract Inventory Analysis (dated February 17, 2023). This report provides information about the Product Service Codes that the CFTC analyzed from the 2021 inventory.

Dated: June 10, 2024.
Christopher Kirkpatrick,
Secretary of the Commission.

[FR Doc. 2024-12968 Filed 6-12-24; 8:45 am]

BILLING CODE 6351-01-P